DEPARTMENT OF TRANSPORTATION

Federal Aviation Administration

14 CFR Part 39

[Docket No. FAA-2014-0055; Directorate Identifier 2013-NM-167-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A310-304, -322, -324, and -325 airplanes. This proposed AD was prompted by reports of insufficient clearance between the fuel quantity indicator (FQI) probes and the adjacent structure and metallic components in the wing fuel tanks. This proposed AD would require a one-time detailed visual inspection for sufficient clearance between FQI probes on both the left-hand side and right-hand side of the trim horizontal stabilizer and the adjacent structure and metallic components in the fuel tanks, and modification if necessary. We are proposing this AD to detect and correct insufficient clearance, which could lead to electrical arcing in a fuel tank during a lightning strike, which could result in ignition and consequent fire or explosion in the fuel tank.

DATES: We must receive comments on this proposed AD by April 11, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0055; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2014-0055; Directorate Identifier 2013-NM-167-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0188, dated August 19, 2013 (referred to after this as the Mandatory Continuing Airworthiness Information, or “the MCAI”), to correct an unsafe condition for the specified products. The MCAI states:

Airbus investigations on A300 aeroplanes revealed insufficient clearance between the Fuel Quantity Indicator (FQI) probes and adjacent structure or metallic components in the wing fuel tanks. A300-600 and A310 aeroplanes are also affected as they are identical in design.

This condition, if not detected and corrected, could lead to electric arcing in a fuel tank in case of lightning strike, which could result in ignition and consequent fire or explosion in the fuel tank.

To address this potential unsafe condition, Airbus issued Service Bulletin (SB) A300-28-0080, SB A300-28-6065 and SB A310-28-2145 and DGAC France issued AD 2000-455-322 (http://ad.easa.europa.eu/ad/F-2000-455-322) to cover A300 aeroplanes and AD 2002-170 (http://ad.easa.europa.eu/ad/F-2002-170) to cover A300-600 and A310 aeroplanes (both EASA ADs were later revised) [Both EASA ADs correspond to FAA AD 2004-05-05, Amendment 39-13499 (69 FR 10319, dated March 5, 2004).

Since those [EASA] ADs were issued, further analysis showed that they do not cover all potentially affected aeroplanes: A310 aeroplanes with optional Mod. no. 12248 embodied were excluded from the applicability of DGAC France AD 2002-170(B) [http://ad.easa.europa.eu/ad/F-2002-170], but are potentially affected, and therefore addressed through this [EASA] AD.

For the reasons described above, this [EASA] AD (http://ad.easa.europa.eu/ad/2013-0188) requires a one-time [detailed visual] inspection of the affected aeroplanes for sufficient clearance between FQI probes [on both the left-hand (LH) side and right-hand (RH) side of the trim horizontal stabilizer] and adjacent structure/metallic parts and, depending on findings, modification of the FQI probes.

You may examine the MCAI in the AD docket on the Internet at http://www.regulations.gov by searching for and locating it in Docket No. FAA-2014-0055.

Relevant Service Information

Airbus has issued Service Bulletin A310-28-2145, Revision 01, dated March 4, 2003. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 2 airplanes of U.S. registry.

We also estimate that it would take about 8 work-hours per product to comply with the basic requirements of this proposed AD. The average labor rate is $85 per work-hour. Required parts would cost about $0 per product. Based on these figures, we estimate the cost of this proposed AD on U.S. operators to be $1,360, or $680 per product.

We have received no definitive data that would enable us to provide cost estimates for the on-condition actions specified in this proposed AD. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2014-0055; Directorate Identifier 2013-NM-167-AD.

(a) Comments Due Date

We must receive comments by April 11, 2014.

(b) Affected ADs

None.

(c) Applicability

This AD applies to Airbus Model A310-304, -322, -324, and -325 airplanes, certificated in any category, on which Airbus modification number 12248 has been embodied.

(d) Subject

Air Transport Association (ATA) of America Code 28, Fuel.

(e) Reason

This AD was prompted by reports of insufficient clearance between the fuel quantity indicator (FQI) probes and the adjacent structure and metallic components in the wing fuel tanks. We are issuing this AD to detect and correct insufficient clearance, which could lead to electrical arcing in a fuel tank during a lightning strike, which could result in ignition and consequent fire or explosion in the fuel tank.

(f) Compliance

Comply with this AD within the compliance times specified, unless already done.

(g) Inspection and Modification

Within 30 months after the effective date of this AD, do a one-time detailed visual inspection for clearance between the FQI probes located in the trimmable horizontal stabilizer tank and the adjacent structure and metallic components, in accordance with the Accomplishment Instructions of Airbus Service Bulletin A310-28-2145, Revision 01, dated March 4, 2003.

(1) If the clearance of an FQI probe is found to be 3.0 millimeters (mm) (0.118 inch) or more: No further action is required by paragraph (g) of this AD.

(2) If the clearance of an FQI probe is found to be 2.5 mm (0.98 inch) or more, and less than 3.0 mm (0.118 inch): Before further flight, loosen the probe screws and move the probe up and down to get the required minimum gap of 3.0 mm (0.118 inch), in accordance with the Accomplishment Instructions of Airbus Service Bulletin A310-28-2145, Revision 01, dated March 4, 2003.

(3) If the clearance of an FQI probe is found to be less than 2.5 mm (0.118 inch): Before further flight, modify each affected FQI probe by installing new FQI probe supports, in accordance with Step 3.C., “Repair,” of the Accomplishment Instructions of Airbus Service Bulletin A310-28-2145, Revision 01, dated March 4, 2003.

(h) Credit for Previous Actions

This paragraph provides credit for the actions required by paragraph (g) of this AD, if those actions were performed before the effective date of this AD using Airbus Service Bulletin A310-28-2145, dated August 21, 2001.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the Design Approval Holder with a State of Design Authority's design organization approval). For a repair method to be approved, the repair approval must specifically refer to this AD. You are required to ensure the product is airworthy before it is returned to service.

(j) Related Information

(1) Refer to Mandatory Continuing Airworthiness Information (MCAI) European Aviation Safety Agency Airworthiness Directive 2013-0188, dated August 19, 2013, for related information. This MCAI may be found in the AD docket on the Internet at http://www.regulations.gov by searching for and locating it in Docket No. FAA-2014-0055.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Issued in Renton, Washington, on February 14, 2014.
Jeffrey E. Duven,
Manager, Transport Airplane Directorate, Aircraft Certification Service.

[FR Doc. 2014-04000 Filed 2-24-14; 8:45 am]

BILLING CODE 4910-13-P